DEPARTMENT OF JUSTICE

Antitrust Division

Notice Pursuant to The National Cooperative Research and Production Act of 1993—The Asymmetrical Digital Subscriber Line Forum

Notice is hereby given that, on December 8, 1999, pursuant to Section 6(a) of the National Cooperative Research and Production Act of 1993, 15 U.S.C. 4301 et seq. (“the Act”), The Asymmetrical Digital Subscriber Line Forum (“ADSL”) has filed written notifications simultaneously with the Attorney General and the Federal Trade Commission disclosing changes in its membership status. The notifications were filed for the purpose of extending the Act's provisions limiting the recovery of antitrust plaintiffs to actual damages under specified circumstances. Specifically, Anda Networks, Santa Clara, CA; Celotek, Research Triangle Park, NC; Digicom Systems, Milpitas, CA; Element 14, Cambridge, England, UNITED KINGDOM; iMagicTV, Saint John, New Brunswick, CANADA; Jato Communications, Denver, CO; Ramp Networks, Santa Clara, CA; Turnstone Systems, Mountain View, CA; Universal Microelectronics, Torrance, CA; Vitria Technology, Sunnyvale, CA; and Wind River Systems, Alameda, CA have been added as parties to this venture. Diamond Lane Communications, Petaluma, CA has merged with Nokia Telecommunications, Petaluma, CA. RELTEC, Bedford, TX was bought by Marconi Communications, Genova, ITALY. Routerware, Newport Beach, CA has merged with Wind Rivers Systems, Alameda, CA; and HP Cerjac, Palo Alto, CA has changed its name to Agilent Technologies, Westford, MA.

No other changes have been made in either the membership or planned activity of the group research project. Membership in this group research project remains open, and ADSL intends to file additional written notifications disclosing all changes in membership.

On May 15, 1995, ADSL filed its original notification pursuant to Section 6(a) of the Act. The Department of Justice published a notice in the Federal Register pursuant to Section 6(b) of the Act on July 25, 1995 (60 FR 338058).

The last notification was filed with the Department on October 13, 1999. A notice for this filing has not yet been published in the Federal Register.

Constance K. Robinson,
Director of Operations, Antitrust Division.

[FR Doc. 00-30188 Filed 11-27-00; 8:45 am]

BILLING CODE 4410-11-M